NATIONAL SCIENCE FOUNDATION

Notice of Permit Modification Request Received Under the Antarctic Conservation Act of 1978

AGENCY: National Science Foundation.

ACTION: Notice of permit modification request received under the Antarctic Conservation Act of 1978, Pub. L. 95-541.

SUMMARY: Notice is hereby given that the National Science Foundation (NSF) has received a request to modify a permit issued to conduct activities regulated under the Antarctic Conservation Act of 1978 (Pub. L. 95-541; Code of Federal Regulations Title 45, Part 670), as amended by the Antarctic Science, Tourism and Conservation Act of 1996.

DATES: Interested parties are invited to submit written data, comments, or views with respect to the permit modification by October 19, 2005. The permit modification request may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale or Nadene G. Kennedy at the above address or (703) 292-8030.

Description of Permit Modification Requested: On November 1, 2001, the National Science Foundation issued a Waste Management Permit (2002 WM-002) to Rennie S. Holt, Director, U.S. Antarctic Marine Living Resources (AMLR) Program, for the operation of a remote field camp at Cape Shirreff, Livingston Island, Antarctica. The permit holder wishes to modify this permit to include the use of doubly labeled water (tritiated and oxygen-18) to measure energetics in Antarctic fur seal pups. These radioisotopes will be added to the list of designated pollutants covered under the existing permit.

Approval of the modification requested will still ensure that waste management and regulatory requirements are met while providing a streamlined approach to waste management. The duration of the requested modification is coincident with the current permit which expires on April 30, 2006.

Nadene G. Kennedy,
Permit Officer.

[FR Doc. 05-18573 Filed 9-16-05; 8:45 am]

BILLING CODE 7555-01-M